NUCLEAR REGULATORY COMMISSION

[Docket Nos. 50-272 and 50-311]

Public Service Electric and Gas Co.; Notice of Withdrawal of Application for Amendment to Facility Operating License

The U.S. Nuclear Regulatory Commission (the Commission) has granted the request of Public Service Electric and Gas Company (PSE&G, or the licensee) to withdraw its November 24, 1999, application, as supplemented by letter dated February 10, 2000, for the proposed amendment to Facility Operating License Nos. DPR-70 and DPR-75 for the Salem Nuclear Generating Station, Unit Nos. 1 and 2 (Salem), located in Salem County, New Jersey.

The proposed amendment would have revised charcoal filter testing requirements defined in the Salem Technical Specifications (TSs) for the Auxiliary Building Ventilation (ABV) System, the Control Room Envelope Air Conditioning System (CREACS), and the Fuel Handling Building Ventilation (FHV) System to be consistent with Generic Letter 99-02, “Laboratory Testing of Nuclear-Grade Activated Charcoal,” dated June 3, 1999.

The Commission had previously issued a Notice of Consideration of Issuance of Amendment published in the Federal Register on May 17, 2000 (65 FR 31359). However, by letter dated May 31, 2000, the licensee withdrew the proposed change. The May 31, 2000, letter also provided a new application for a license amendment to change the Salem TSs concerning ABV, CREACS, and FHV charcoal filter testing which effectively superceded PSE&G's original November 24, 1999, request.

For further details with respect to this action, see the application for amendment dated November 24, 1999, supplemental letter dated February 10, 2000, and the licensee's letter dated May 31, 2000, which withdrew the application for license amendment. The above documents are available for public inspection at the Commission's Public Document Room, the Gelman Building, 2120 L Street, NW., Washington, DC, and accessible electronically through the ADAMS Public Electronic Reading Room link at the NRC Web site (http://www.nrc.gov).

Dated at Rockville, Maryland, this 6th day of July 2000.
For the Nuclear Regulatory Commission.
Robert J. Fretz,
Project Manager, Section 2, Project Directorate I, Division of Licensing Project Management, Office of Nuclear Reactor Regulation.

[FR Doc. 00-17770 Filed 7-12-00; 8:45 am]

BILLING CODE 7590-01-P